DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 31, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Internal Revenue Service (IRS)

Title: Notice Concerning Fiduciary Relationship/Notice Concerning Fiduciary Relationship of Financial Institution.

OMB Control Number: 1545-0013.

Type of Review: Extension without change of a currently approved collection.

Description: Form 56 is used to inform the IRS that a person in acting for another person in a fiduciary capacity so that the IRS may mail tax notices to the fiduciary concerning the person for whom he/she is acting. The data is used to ensure that the fiduciary relationship is established or terminated and to mail or discontinue mailing designated tax notices to the fiduciary. The filing of Form 56-F by a fiduciary (FDIC or other federal agency acting as a receiver or conservator of a failed financial institution (bank or thrift) gives the IRS the necessary information to submit send letters, notices, and notices of tax liability to the federal fiduciary now in charge of the financial institution rather than sending the notice, etc. to the institution's last known address.

Form: 56, 56-F.

Affected Public: Businesses or other for-profits.

Estimated Number of Respondents: 25,000.

Frequency of Response: On occasion.

Estimated Total Number of Annual Responses: 173,944.

Estimated Time per Response: 2.01 hours.

Estimated Total Annual Burden Hours: 349,786.

Title: Annual Summary and Transmittal of U.S. Information Returns.

OMB Control Number: 1545-0108.

Type of Review: Extension without change of a currently approved collection.

Description: Sections 408(i), 6041 through 6045, 6047, 6049, 6050A, 6050B, 6050D, 6050E, 6050H, 6050J, 6050N, and 6050P of the Internal Revenue Code (IRC), provide for the filing of information returns to report the payment of certain types of income, mortgage interest, and IRA contributions. Regulation section 1.6041-1(a)(2) provides that the transmittal of paper Form 1097, 1098, 1098-F, 1099, 1099-LS, 1099-SB, 3921, 3922, 5498, and W-2G shall be made with Form 1096, Annual Summary and Transmittal of U.S. Information Returns.

Form: 1096.

Affected Public: Businesses or other for-profits.

Estimated Number of Respondents: 5,640,300.

Frequency of Response: Annually.

Estimated Total Number of Annual Responses: 5,640,300.

Estimated Time per Response: .23 hours.

Estimated Total Annual Burden Hours: 1,297,269.

Title: Certain Government Payments.

OMB Control Number: 1545-0120.

Type of Review: Extension without change of a currently approved collection.

Description: Form 1099-G is used by governments (primarily state and local) to report to the IRS (and notify recipients of) certain payments (e.g., unemployment compensation and income tax refunds). IRS uses the information to insure that the income is being properly reported by the recipients on their returns.

Form: 1099-G.

Affected Public: State, Local, and Tribal Governments.

Estimated Number of Respondents: 1,900.

Frequency of Response: Annually.

Estimated Total Number of Annual Responses: 82,364,600.

Estimated Time per Response: .30 hours.

Estimated Total Annual Burden Hours: 24,709,380.

Title: Form W-2G—Certain Gambling Winnings.

OMB Control Number: 1545-0238.

Type of Review: Revision of a currently approved collection.

Description: Section 6041 of the Internal Revenue Code requires payers of certain gambling winnings to report them to IRS. If applicable, section 3402(g) and section 3406 require tax withholding on these winnings. We use the information to ensure taxpayers' reporting compliance.

Form: W-2G, W-2.

Affected Public: Individuals or Households.

Estimated Number of Respondents: 15,349,567.

Frequency of Response: On occasion.

Estimated Total Number of Annual Responses: 15,349,567.

Estimated Time per Response: .41 hours.

Estimated Total Annual Burden Hours: 6,293,323.

Title: Returns Required on Magnetic Media.

OMB Control Number: 1545-0957.

Type of Review: Extension without change of a currently approved collection.

Description: Certain filers of information returns are required by law to file on magnetic media. In some instances, waivers from this requirement are necessary and justified. Form 8508 is submitted by the filer and provides information on which IRS will base its waiver determination.

Form: 8508.

Affected Public: Businesses or other for-profits.

Estimated Number of Respondents: 1,000.

Frequency of Response: On occasion.

Estimated Total Number of Annual Responses: 1,000.

Estimated Time per Response: Time per response.

Estimated Total Annual Burden Hours: 750.

Title: Form 1099-S—Proceeds From Real Estate Transactions.

OMB Control Number: 1545-0997.

Type of Review: Extension without change of a currently approved collection.

Description: Form 1099-S is used by the real estate reporting person to report proceeds from a real estate transaction to the IRS.

Form: 1099-S.

Affected Public: Businesses or other for-profits.

Estimated Number of Respondents: 75,000.

Frequency of Response: Annually.

Estimated Total Number of Annual Responses: 2,573,400.

Estimated Time per Response: .16 hours.

Estimated Total Annual Burden Hours: 411,744.

Title: Form 8693—Low-Income Housing Credit Disposition Bond or Treasury Direct Account Application.

OMB Control Number: 1545-1029.

Type of Review: Extension without change of a currently approved collection.

Description: Form 8693 is needed per IRC section 42(j)(6) to post bond or establish a Treasury Direct Account and waive the recapture requirements under section 42(j) for certain disposition of a building on which the low-income housing credit was claimed. Internal Revenue regulations section 301.7101-1 requires that the posting of a bond must be done on the appropriate form as determined by the Internal Revenue Service.

Form: 8693.

Affected Public: Businesses or other for-profits.

Estimated Number of Respondents: 1,000.

Frequency of Response: On occasion.

Estimated Total Number of Annual Responses: 667.

Estimated Time per Response: 5.38 hours.

Estimated Total Annual Burden Hours: 3,589.

Title: TD 8316 Cooperative Housing Corporations.

OMB Control Number: 1545-1041.

Type of Review: Extension without change of a currently approved collection.

Description: This document contains previously approved amendments to the Income Tax Regulations under section 216 of the Internal Revenue Code of 1986, relating to cooperative housing corporations. Section 216 of the Code was amended by the Tax Reform Act of 1986. The regulations provide cooperative housing corporations and tenant-stockholders with guidance needed to comply with the law.

Form: None.

Affected Public: Businesses or other for-profits.

Estimated Number of Respondents: 2,500.

Frequency of Response: Annually.

Estimated Total Number of Annual Responses: 2,500.

Estimated Time per Response: .5 hours.

Estimated Total Annual Burden Hours: 1,250.

Title: Notice of Plan Merger or Consolidation, Spinoff, or Transfer of Plan Assets or Liabilities; Notice of Qualified Separate Lines of Business.

OMB Control Number: 1545-1225.

Type of Review: Revision of a currently approved collection.

Description: Plan administrators are required to notify IRS of any plan mergers, consolidations, spinoffs, or transfers of plan assets or liabilities to another plan. Employers are required to notify IRS of separate lines of business for their deferred compensation plans. Form 5310-A is used to make these notifications.

Form: 5310-A.

Affected Public: Businesses or other for-profits.

Estimated Number of Respondents: 694.

Frequency of Response: On occasion.

Estimated Total Number of Annual Responses: 694.

Estimated Time per Response: 10.59 hours.

Estimated Total Annual Burden Hours: 7,347.

Title: Tax Treatment of Salvage and Reinsurance.

OMB Control Number: 1545-1227.

Type of Review: Extension without change of a currently approved collection.

Description: The regulation provides a disclosure requirement for an insurance company that increases losses shown on its annual statement by the amount of estimated salvage recoverable taken into account.

Form: None.

Affected Public: Businesses or other for-profits.

Estimated Number of Respondents: 2,500.

Frequency of Response: Annually.

Estimated Total Number of Annual Responses: 2,500.

Estimated Time per Response: 2 hours.

Estimated Total Annual Burden Hours: 5,000.

Title: TD 8825 (Final)—Regulations Under Section 382 of the Internal Revenue Code of 1986; Application of Section 382 in Short Taxable Years and With Respect to Controlled Groups.

OMB Control Number: 1545-1434.

Type of Review: Extension without change of a currently approved collection.

Description: Section 382 limits the amount of income that can be offset by loss carryovers after an ownership change. These previously approved regulations provide rules for applying section 382 in the case of short taxable years and with respect to controlled groups.

Form: None.

Affected Public: Businesses or other for-profits.

Estimated Number of Respondents: 3,500.

Frequency of Response: Annually.

Estimated Total Number of Annual Responses: 3,500.

Estimated Time per Response: .25 hours.

Estimated Total Annual Burden Hours: 875.

Title: Requirements Respecting the Adoption or Change of Accounting Method, Extensions of Time to Make Elections.

OMB Control Number: 1545-1488.

Type of Review: Extension without change of a currently approved collection.

Description: This document contains previously approved final regulations providing the procedures for requesting an extension of time to make certain elections under the Internal Revenue Code. In addition, the regulations provide the standards that the Commissioner will use in determining whether to grant taxpayers extensions of time to make certain elections including changes in accounting method and accounting period.

Form: None.

Affected Public: Businesses or other for-profits.

Estimated Number of Respondents: 500.

Frequency of Response: On occasion.

Estimated Total Number of Annual Responses: 500.

Estimated Time per Response: 10 hours.

Estimated Total Annual Burden Hours: 5,000.

Title: Form 8850—Pre-Screening Notice and Certification Request for the Work Opportunity and Welfare-to-Work Credits.

OMB Control Number: 1545-1500.

Type of Review: Extension without change of a currently approved collection.

Description: Employers use Form 8850 as part of a written request to a state employment security agency to certify an employee as a member of a targeted group for purposes of qualifying for the work opportunity credit. The work opportunity credit covers individuals who begin work for the employer before July 1, 1999.

Form: 8850.

Affected Public: Businesses or other for-profits.

Estimated Number of Respondents: 440,000.

Frequency of Response: Annually.

Estimated Total Number of Annual Responses: 440,000.

Estimated Time per Response: 7.37 hours.

Estimated Total Annual Burden Hours: 3,242,800.

Title: Long-Term Care and Accelerated Death Benefits.

OMB Control Number: 1545-1519.

Type of Review: Revision of a currently approved collection.

Description: Under the terms of IRC sections 7702B and 101g, qualified long- term care and accelerated death benefits paid to chronically ill individuals are treated as amounts received for expenses incurred for medical care. Amounts received on a per diem basis in excess of $175 per day are taxable. Section 6050Q requires all such amounts to be reported. Form 1099-LTC is used if any long-term care benefits, including accelerated death benefits are paid. Payers include insurance companies, governmental units, and viatical settlement providers.

Form: 1099 LTC.

Affected Public: Businesses or other for-profits.

Estimated Number of Respondents: 3,000.

Frequency of Response: Annually.

Estimated Total Number of Annual Responses: 377,467.

Estimated Time per Response: .23 hours.

Estimated Total Annual Burden Hours: 88,818.

Title: REG-209823-96 (TD 8791)—Guidance Regarding Charitable Remainder Trusts and Special Valuation Rules for Transfer of Interests in Trusts.

OMB Control Number: 1545-1536.

Type of Review: Extension without change of a currently approved collection.

Description: A charitable remainder trust provides for a specified periodic distribution to one or more beneficiaries for life or for a term of years with an irrevocable remainder interest held for the benefit of charity. A contribution to a charitable remainder trust generally qualifies for a charitable deduction. Regulation REG-209823-96 provides an alternative method and guidance, allowing a taxpayer to use a current qualified appraisal (as defined in § 1.170A-13(c)(3)) from a qualified appraiser (as defined in § 1.170A-13(c)(5)) for valuing a trust's difficult-to-value assets, which may reduce cost to taxpayer and offer be less burdensome. Likely respondents are business or other for profits.

Form: None.

Affected Public: Businesses or other for-profits.

Estimated Number of Respondents: 150.

Frequency of Response: Annually.

Estimated Total Number of Annual Responses: 150.

Estimated Time per Response: .5 hours.

Estimated Total Annual Burden Hours: 75.

Title: Rev. Proc. 99-17—Mark to Market Election for Commodities Dealers and Securities and Commodities Traders.

OMB Control Number: 1545-1641.

Type of Review: Extension without change of a currently approved collection.

Description: The revenue procedure prescribes the time and manner for dealers in commodities and traders in securities or commodities to elect to use the mark-to-market method of accounting under Sec. 475(e) or (f) of the Internal Revenue Code. The collections of information of this revenue procedure are required by the IRS in order to facilitate monitoring taxpayers changing accounting methods resulting from making the elections under Sec. 475(e) or (f).

Form: None.

Affected Public: Businesses or other for-profits.

Estimated Number of Respondents: 1,000.

Frequency of Response: Annually.

Estimated Total Number of Annual Responses: 1,000.

Estimated Time per Response: .5 hours.

Estimated Total Annual Burden Hours: 500.

Title: Form 8717 and 8717-A—User Fee for Employee Plan Determination Letter Request.

OMB Control Number: 1545-1772.

Type of Review: Revision of a currently approved collection.

Description: The Omnibus Reconciliation Act of 1990 requires payment of a “user fee” with each application for a determination letter. Because of this requirement, the Form 8717 was created to provide filers the means to make payment and indicate the type of request.

Form: 8717, 8717-A.

Affected Public: Businesses or other for-profits.

Estimated Number of Respondents: 40,000.

Frequency of Response: On occasion.

Estimated Total Number of Annual Responses: 40,000.

Estimated Time per Response: 11.23 hours.

Estimated Total Annual Burden Hours: 449,340.

Title: User Fee for Exempt Organization Determination Letter Request.

OMB Control Number: 1545-1798.

Type of Review: Extension without change of a currently approved collection.

Description: Section 7528 of the Code directs the Secretary of the Treasury or delegate (the “Secretary”) to establish a program requiring the payment of user fees for requests to the Service for letter rulings, opinion letters, determination letters, and similar requests. Form 8718, User Fee for Exempt Organization Determination Letter Request, was created as a result of The Omnibus Reconciliation Act of 1990 which requires payment of a “user fee” with each application for a determination letter. Form 8718 provides filers with the means to enclose their user fee payment and indicate what type of request they are making.

Form: 8718.

Affected Public: Businesses or other for-profits.

Estimated Number of Respondents: 14,376.

Frequency of Response: On occasion.

Estimated Total Number of Annual Responses: 14,376.

Estimated Time per Response: .05 hours.

Estimated Total Annual Burden Hours: 719.

Title: Interest Rates and Appropriate Foreign Loss Payment Patterns For Determining the Qualified Insurance Income of Certain Controlled Corporations under Section 954(f).

OMB Control Number: 1545-1799.

Type of Review: Extension without change of a currently approved collection.

Description: This notice provide guidance on how to determine the foreign loss payment patterns of a foreign insurance company owned by U.S. shareholder for purposes of determining the amount of investment income earned by the insurance company that is not treated as Subpart F income under section 954(i).

Form: None.

Affected Public: Businesses or other for-profits.

Estimated Number of Respondents: 300.

Frequency of Response: Annually.

Estimated Total Number of Annual Responses: 300.

Estimated Time per Response: 1 hour.

Estimated Total Annual Burden Hours: 300.

Title: Repayment of a Federal Government Buyout and Possible Suspension of Severance Pay.

OMB Control Number: 1545-1920.

Type of Review: Extension without change of a currently approved collection.

Description: Form 12311 outlines the regulations requiring those employees being rehired by the government and received a buyout from their previous job to make repayment of the buyout before they will be hired again.

Form: 12311.

Affected Public: Individuals or Households.

Estimated Number of Respondents: 6,624.

Frequency of Response: On occasion.

Estimated Total Number of Annual Responses: 6,624.

Estimated Time per Response: .08 hours.

Estimated Total Annual Burden Hours: 530.

Title: TD 9360 (Final)—Guidance on Passive Foreign Company (PFIC) Purging Elections.

OMB Control Number: 1545-1965.

Type of Review: Extension without change of a currently approved collection.

Description: The IRS needs the information to substantiate the taxpayer's computation of the taxpayer's share of the PFIC's post-1986 earning and profits.

Form: None.

Affected Public: Individuals or Households.

Estimated Number of Respondents: 250.

Frequency of Response: Annually.

Estimated Total Number of Annual Responses: 250.

Estimated Time per Response: 1 hour.

Estimated Total Annual Burden Hours: 250.

Title: Form 8932—Credit for Employer Differential Wage Payments.

OMB Control Number: 1545-2126.

Type of Review: Extension without change of a currently approved collection.

Description: Qualified employers will file Form 8932 to claim the credit for qualified differential wage payments paid to qualified employees after June 17, 2008, and before January 1, 2010. Authorized under I.R.C. section 45P.

Form: 8932.

Affected Public: Businesses or other for-profits.

Estimated Number of Respondents: 21,100.

Frequency of Response: Annually.

Estimated Total Number of Annual Responses: 21,100.

Estimated Time per Response: 2.96 hours.

Estimated Total Annual Burden Hours: 62,456.

Title: Form 5884-C—Work Opportunity Credit for Qualified Tax-Exempt Organizations Hiring Qualified Veterans.

OMB Control Number: 1545-2226.

Type of Review: Extension without change of a currently approved collection.

Description: Form 5884-C, Work Opportunity Credit for Qualified Tax-Exempt Organizations Hiring Qualified Veterans, was developed as a result of VOW to Hire Heroes Act of 2011, Public Law 112-56. Section 261 of Public Law 112-56 expanded the Work Opportunity Credit to tax-exempt organizations that hire unemployed veterans. The tax credit is a reduction in payroll taxes paid by the tax-exempt organization. Form 5884-C allows a tax-exempt organization a way to claim the credit and provides the IRS the information to process the tax credit.

Form: 5884-C.

Affected Public: Not-for-profit institutions.

Estimated Number of Respondents: 60,530.

Frequency of Response: Annually and On occasion.

Estimated Total Number of Annual Responses: 60,530.

Estimated Time per Response: 6.57 hours.

Estimated Total Annual Burden Hours: 397,683.

Title: Form 8957—Foreign Account Tax Compliance Act (FATCA) Registration, Form 8966—FATCA Report, 8966-C, Cover Sheet for Form 8966 Paper Submissions, Form 8809-I—Application for Extension of Time to File.

OMB Control Number: 1545-2246.

Type of Review: Revision of a currently approved collection.

Description: Form 8957 is to be used by a foreign financial institution to apply for status as a foreign financial institution as defined in IRC 1471(b)(2). Form 8966 is for reporting purposes and is to be filed by foreign financial institutions to report foreign reportable amounts paid to their current account holders that are nonparticipating FFIs. Form 8966 is further to be filed by a withholding agent to report US owners of certain foreign entities regarding withhold-able payments made to these entities. Form 8809-I is an application for an extension of time to file Form 8966. Form 8508-I is a request for a waiver from filing Form 8966 electronically. Form 8966-C is a cover sheet for those submitting a paper version of Form 8966.

Form: 8957, 8966, 8966-C, 8809-I, 8508 I.

Affected Public: Businesses or other for profits.

Estimated Number of Respondents: 5,561,180.

Frequency of Response: Annually.

Estimated Total Number of Annual Responses: 5,561,180.

Estimated Time per Response: Form 8957: 8.14 hours; Form 8966: .42 hours; Form 8966-C: .12 hours; Form 8809-I: 3.36 hours; Form 8508 I: 4.29 hours.

Estimated Total Annual Burden Hours: 2,912,282 hours.

Authority: 44 U.S.C. 3501 et seq.

Dated: November 27, 2018.
Jennifer P. Quintana,
Treasury PRA Clearance Officer.

[FR Doc. 2018-26039 Filed 11-29-18; 8:45 am]

BILLING CODE 4830-01-P